ENVIRONMENTAL PROTECTION AGENCY

[OPP-50888; FRL-6786-3]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Registration Division (7505C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

264-EUP-130. Issuance. Aventis CropScience USA LP, 2 T.W. Alexander Drive, Research Triangle Park, NC 27709. This EUP allows the use of 0.63 pounds of the herbicides foramsulfuron and iodosulfuron-methyl-sodium on 21 acres of field corn to evaluate the control of annual and perennial grass and broadleaf weeds. The program is authorized only in the States of Nebraska, Tennessee, and Texas. The EUP is effective from April 16, 2001 to April 17, 2002. This permit is issued with the limitation that all treated crops will be destroyed or used for research purposes only. (Joanne I. Miller; Rm. 241, Crystal Mall #2; telephone number: (703) 305-6224; e-mail address: miller.joanne@epa.gov).

264-EUP-131. Issuance. Aventis CropScience USA LP, 2 T.W. Alexander Drive, Research Triangle Park, NC 27709. This EUP allows the use of 5.2 pounds of the herbicide foramsulfuron on 136 acres of field corn to evaluate the control of annual and perennial grass and broadleaf weeds. The program is authorized only in the States of Colorado, Illinois, Indiana, Iowa, Kansas, Kentucky, Michigan, Minnesota, Missouri, Montana, Nebraska, New York, North Carolina, North Dakota, Ohio, Pennsylvania, South Dakota, Tennessee, Texas, and Wisconsin. The EUP is effective from April 16, 2001 to April 17, 2002. This permit is issued with the limitation that all treated crops will be destroyed or used for research purposes only. (Joanne I. Miller; Rm. 241, Crystal Mall #2; telephone number: (703) 305-6224; e-mail address: miller.joanne@epa.gov).

264-EUP-132. Issuance. Aventis CropScience USA LP, 2 T.W. Alexander Drive, Research Triangle Park, NC 27709. This EUP allows the use of 0.735 pounds of the herbicides foramsulfuron and iodosulfuron-methyl-sodium on 22 acres of field corn to evaluate the control of annual and perennial grass and broadleaf weeds. The program is authorized only in the States of Minnesota, Nebraska, South Dakota, Tennessee, and Texas. The EUP is effective from April 16, 2001 to April 17, 2002. This permit is issued with the limitation that all treated crops will be destroyed or used for research purposes only. (Joanne I. Miller; Rm. 241, Crystal Mall #2; telephone number: (703) 305-6224; e-mail address: miller.joanne@epa.gov).

62719-EUP-49. Issuance. Dow AgroSciences LLC, 9330 Zionsville Road, Indianapolis, IN 46268. This EUP allows the use of 3 pounds of the herbicide diclosulam on 110 acres of peanuts to evaluate the control of broadleaf weeds and sedges in preplant incorporated, preemergence, and post pest emergence testing trials. The program is authorized only in the States of New Mexico and Texas. The EUP is effective from May 15, 2001 to March 31, 2002. A tolerance has been established for residues of the active ingredient in or on peanuts. (Dan Rosenblatt; Rm. 239, Crystal Mall #2; telephone number: (703) 305-5697; e-mail address: rosenblatt.dan@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: May 31, 2001.
Peter Caulkins,
Acting Director, Registration Division, Office of Pesticide Programs.

[FR Doc. 01-15297 Filed 6-19-01; 8:45 am]

BILLING CODE 6560-50-S